DEPARTMENT OF COMMERCE

National Oceanic and Atmospheric Administration

Agency Information Collection Activities; Submission to the Office of Management and Budget (OMB) for Review and Approval; Comment Request; NOAA Geospatial Metadata

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 29, 2021 (86 FR 7541) during a 60-day comment period. This notice allows for an additional 30 days for public comments.

Agency: National Oceanic & Atmospheric Administration (NOAA), Commerce.

Title: NOAA Geospatial Metadata tools.

OMB Control Number: 0648-0024.

Form Number(s): None.

Type of Request: Regular submission, revision and extension of a current information collection.

Number of Respondents: 1,430.

Average Hours per Response: 1.75.

Total Annual Burden Hours: 2,590.

Needs and Uses: This request is for revision and extension of a currently approved information collection. The National Oceanic and Atmospheric Administration (NOAA) collects, generates, retains, and redistributes geospatial metadata in a wide array of data formats covering diverse aspects of earth, biological, and space sciences. To fully understand and reuse these data over the course of many years, NOAA provides several metadata documentation tools for various communities of users to enable them to easily create complete, standards-based descriptive information about geospatial data. The following tools, in use or planned for use by NOAA Program offices, are authorized to collect geospatial metadata consistent with Executive Order 12906, NOAA Administrative Order 212-15, and the 2013 Office of Science and Technology Policy Memorandum `Public Access to Research Results'. Geospatial metadata collected by the listed tools are `voluntary' but the ability for data documented by relevant geospatial metadata is significantly degraded if metadata are incomplete, inaccurate or otherwise less than the information collection tool supports.

National Environmental Satellite, Data and Information Service (NESDIS): Send2NCEI web application (currently approved as OMB Control Number: 0648-0024).

National Environmental Satellite, Data and Information Service: Advanced Tracking and Resource tool for Archive Collections (ATRAC) web application.

National Environmental Satellite, Data and Information Service: Collection Metadata Editing Tool (CoMET) web application.

National Marine Fisheries Service (NMFS): InPort metadata authoring tool.

Office of Oceanic and Atmospheric Research (OAR): Science Data Information System (SDIS) metadata and data submission tool.

Collecting geospatial metadata is necessary to fully understand, use, and reuse geospatial data since the metadata provides contextual information about data formats, bounding areas, use and access limitations (if any). Geospatial metadata from this information collection also supports multiple search and discovery catalog services, such as data.gov, NASA Global Change Master Directory (GCMD), and many others.

Information will be collected from data producers (primarily university, private industry, and government-funded scientific researchers) in multiple fields of geosciences, biological and atmospheric sciences, and socio-economic sciences. Geospatial metadata typically includes descriptive information about specific observed, calculated, or modelled data (e.g., title, abstract, purpose statement, descriptive discovery keywords), characteristics of the described data (e.g., date and spatial range of data collection activities, data processing steps, collected/measured variables and units of measure for those variables) and administrative information (e.g., who collected or created data and metadata, how to cite data when used in scientific analyses). Information collected by the listed tools is used to inform the appropriate use of data described by related geospatial metadata.

The existing OMB control number is expanded to include other information collection instruments that collect similar kinds of geospatial metadata but that have different community-based practices or standards that provide for more or less details in the metadata requested. Additionally, the title of the collection is being changed from National Centers for Environmental Information (NCEI) Send2NCEI Web Application to NOAA Geospatial Metadata to reflect the information being collected.

Affected Public: Business or other for-profit organizations; Not-for-profit institutions; State, Local, or Tribal government; Federal government.

Frequency: As needed for geospatial data documentation purposes.

Respondent's Obligation: Voluntary.

Legal Authority: Executive Order 12906 and the 2013 Office of Science and Technology Policy Memorandum `Public Access to Research Results'.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0024.

Sheleen Dumas,
Department PRA Clearance Officer, Office of the Chief Information Officer, Commerce Department.

[FR Doc. 2021-09674 Filed 5-6-21; 8:45 am]

BILLING CODE 3510-12-P